DEPARTMENT OF DEFENSE

Defense Partnership Council Meeting; Cancellation

Office of the Secretary

AGENCY: Department of Defense.

ACTION: Notice.

SUMMARY: On May 5, 2000 (65 FR 26190), the Department of Defense published a notice to announce a meeting of the Defense Partnership Council meeting to be held on May 23, 2000. This notice is to announce the cancellation of the meeting due to conflicts in members' schedules.

FOR FURTHER INFORMATION CONTACT: Mr. Ben James, Chief, Labor Relations Branch, Field Advisory Services Division, Defense Civilian Personnel Management Service, 1400 Key Boulevard, Suite B-200, Arlington, VA 22209-5144, telephone 703-696-1450.

Dated: May 10, 2000.
L.M. Bynum,
Alternate OSD Federal Register Liaison Officer, Department of Defense.

[FR Doc. 00-12189 Filed 5-15-00; 8:45 am]

BILLING CODE 5001-10-M